DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Cross-Site Process Evaluation of the Collaborative Initiative To Help End Chronic Homelessness—New

The Substance Abuse and Mental Health Services Administration's (SAMHSA), Center for Mental Health Services (CMHS) and Center for Substance Abuse Treatment (CSAT) will fund an evaluation of the Collaborative Initiative to End Chronic Homelessness (CHI). The CHI is assisting unaccompanied homeless individuals with a disabling condition who have been continuously homeless for one year or had at least four episodes of homelessness in the past three years to achieve permanent housing and make use of supportive services. Within SAMHSA, CMHS will be the lead Center.

This evaluation will monitor and describe the implementation and progress of the 11 local projects of the Initiative. A cross-site process evaluation is needed to assure a high level of accountability and to describe and analyze the critical elements of the projects that influence the clients, the services, and the system outcomes, using the same research methods for all sites. SAMHSA will conduct an evaluation by including a site-by-site description of critical project elements including qualitative descriptive information on the: project context, target population, engagement activities, housing, service delivery model, staffing, service integration, systems integration, and community planning.

Data collection will be conducted over a 36-month period. At each project site a series of measures will be used to assess: (1) How chronically homeless clients are assisted in obtaining permanent housing and supportive services, (2) how clients are maintained in permanent housing and supportive services, (3) how the project affects client quality of life, (4) how the project expands or enhances the existing service system in the short-term and long-term, (5) how the project extends its reach to beyond the original number of clients and project funding, (6) how the project develops structures to sustain itself after grant funding ends, and (7) how the project influences local policy related to homelessness.

Data collection instruments are semi-structured and will be administered by trained evaluation staff. Annual interviews will be conducted with key informants associated with the projects through annual visits to project sites and telephone interviews. Focus groups with project consumers will be conducted during annual visits. One-page activity checklists will be required every other month from a random sample of project staff (staff may be randomly selected more than once each year). Project documentation from project advisory and managerial groups (e.g., meeting minutes) will be reviewed for evidence of service system and policy change.

The estimated annual response burden to collect this information is as follows:

Instrument | Number of respondents | Responses/ respondent | Burden/ response (hrs) | Annual burden (hrs)
Project Coordinator Interview | 11 | 1 | 1.5 | 17
Team Lead Interview | 11 | 1 | 2 | 22
Clinician Interview | 11 | 1 | 1 | 11
Case Manager Interview | 33 | 1 | 2 | 66
Property Manager Interview | 11 | 1 | .5 | 6
Advisory Board Member Interview | 11 | 1 | 1.2 | 13
Partner Agency/subcontractor Interview | 33 | 1 | 1.2 | 40
Outside Stakeholder Interview | 11 | 1 | .75 | 8
Consumer Focus Group | 66 | 1 | 1.5 | 99
Activity Checklist ** | 66 | 3 | .5 | 99
Total Annual* | 264 |  |  | 380
* Sums and averages are rounded up to nearest integer.
** These respondents are selected from the same staff as the interviews above (project coordinator, team lead, clinician, case manager).

Send comments to Summer King, SAMHSA Reports Clearance Officer, Room 71-1045, One Choke Cherry Road, Rockville, MD 20857. Written comments should be received within 60 days of this notice.

Dated: February 28, 2005.
Anna Marsh,
Executive Officer, SAMHSA.

[FR Doc. 05-4242 Filed 3-3-05; 8:45 am]

BILLING CODE 4162-20-U